DEPARTMENT OF COMMERCE

International Trade Administration

[A-560-836]

Mattresses From Indonesia: Preliminary Results of Antidumping Duty Administrative Review; 2022-2023

AGENCY: Enforcement and Compliance, International Trade Administration, Department of Commerce.

SUMMARY: The U.S. Department of Commerce (Commerce) preliminarily determines that PT Ecos Jaya Indonesia and PT Grantec Jaya Indonesia (collectively, Ecos/Grantec), and the non-individually-examined companies for which a review was requested made sales of mattresses from Indonesia at prices below normal value (NV) during the period of review (POR), May 1, 2022, through April 30, 2023. Additionally, Commerce preliminarily determines that PT Zinus Global Indonesia (Zinus Indonesia) did not make sales of mattresses from Indonesia at prices below NV during the POR. We invite interested parties to comment on these preliminary results.

DATES: Applicable June 3, 2024.

FOR FURTHER INFORMATION CONTACT: Katherine Johnson or Brian Smith, AD/CVD Operations, Office VIII, Enforcement and Compliance, International Trade Administration, U.S. Department of Commerce, 1401 Constitution Avenue NW, Washington, DC 20230; telephone: (202) 482-4929 or (202) 482-1766, respectively.

SUPPLEMENTARY INFORMATION:

Background

On May 14, 2021, Commerce published the antidumping duty (AD) order on mattresses from Indonesia.¹ On July 12, 2023, in accordance with 19 CFR 351.221(c)(1)(i), Commerce initiated an administrative review of the Order.²

¹ See Mattresses from Cambodia, Indonesia, Malaysia, Serbia, Thailand, Republic of Turkey, and the Socialist Republic of Vietnam: Antidumping Duty Orders and Amended Final Affirmative Antidumping Determination for Cambodia, 86 FR 26460 (May 14, 2021) (Order).

² See Initiation of Antidumping and Countervailing Duty Administrative Reviews, 89 FR 44262 (July 12, 2023).

Pursuant to section 751(a)(3)(A) of the Tariff Act of 1930, as amended (the Act), on January 10, 2024, Commerce determined that it was not practicable to complete the preliminary results of this review within 245 days and extended the deadline for the preliminary results of this review by 120 days, until May 30, 2024.³

³ See Memorandum, “Extension of Deadline for Preliminary Results of 2022-2023 Antidumping Duty Administrative Review,” dated January 10, 2024.

For a detailed description of the events that followed the initiation of this review, see the Preliminary Decision Memorandum.⁴ The Preliminary Decision Memorandum is a public document and is available via Enforcement and Compliance's Antidumping and Countervailing Duty Centralized Electronic Service System (ACCESS). ACCESS is available to registered users at https://access.trade.gov. In addition, a complete version of the Preliminary Decision Memorandum can be found at https://access.trade.gov/public/FRNoticesListLayout.aspx.

⁴ See Memorandum, “Decision Memorandum for the Preliminary Results of Antidumping Duty Administrative Review of Mattresses from Indonesia; 2022-2023,” dated concurrently with, and hereby adopted by, this notice (Preliminary Decision Memorandum).

Scope of the Order

The products covered by the Order are mattresses from Indonesia. The product is currently classified under the Harmonized Tariff Schedule of the United States (HTSUS) subheadings 9404.21.0010, 9404.21.0013, 9404.29.1005, 9404.29.1013, 9404.29.9085, and 9404.29.9087. Products subject to this review may also enter under HTSUS subheadings 9404.21.0095, 9404.29.1095, 9404.29.9095, 9401.40.0000, and 9401.90.5081. The HTSUS subheadings are provided for convenience and customs purposes only; the written product description of the scope of the Order is dispositive. For a full description of the scope, see the Preliminary Decision Memorandum.

Methodology

Commerce is conducting this administrative review in accordance with section 751(a) of the Act. Export price and constructed export price are calculated in accordance with section 772 of the Act. NV is calculated in accordance with section 773 of the Act. For a full description of the methodology underlying these preliminary results, see the Preliminary Decision Memorandum. A list of topics included in the Preliminary Decision Memorandum is included as Appendix I to this notice.

Rate for Non-Examined Companies

The statute and Commerce's regulations do not address the establishment of a weighted-average dumping margin to be determined for companies not selected for individual examination when Commerce limits its examination in an administrative review pursuant to section 777A(c)(2) of the Act. Generally, Commerce looks to section 735(c)(5) of the Act, which provides instructions for calculating the all-others rate in an investigation, for guidance when determining the weighted-average dumping margin for companies which were not selected for individual examination in an administrative review. Under section 735(c)(5)(A) of the Act, the all-others rate is normally “an amount equal to the weighted average of the estimated weighted average dumping margins established for exporters and producers individually investigated, excluding any zero and de minimis margins, and any margins determined entirely {on the basis of facts available}.”

We preliminarily calculated dumping margins for the two mandatory respondents, Ecos/Grantec and Zinus Indonesia, of 31.17 percent and 0.00 percent, respectively, and we have assigned to the non-selected companies a rate of 31.17 percent, which is the rate for Ecos/Grantec.

Preliminary Results of the Review

We preliminarily determine that the following weighted-average dumping margins exist for the period May 1, 2022, through April 30, 2023:

⁵ We are treating these companies as a single entity for purposes of this review. For a complete discussion, see Memorandum, “Affiliation and Collapsing of PT Ecos Jaya Indonesia and PT Grantec Jaya Indonesia,” dated December 8, 2022.

⁶ See Appendix II for a list of these companies.

Exporter or producer | Weighted- average dumping margin (percent)
PT Ecos Jaya Indonesia/PT Grantec Jaya Indonesia ⁵ | 31.17
PT Zinus Global Indonesia | 0.00
Non-Examined Companies ⁶ | 31.17

Disclosure and Public Comment

Commerce intends to disclose its calculations and analysis performed for these preliminary results to interested parties within five days of the date of publication of this notice in accordance with 19 CFR 351.224(b).

Pursuant to 19 CFR 351.309(c), interested parties may submit case briefs to Commerce no later than 30 days after the date of publication of this notice.⁷ Rebuttal briefs, limited to issues raised in the case briefs, may be filed not later than five days after the date for filing case briefs.⁸ Interested parties who submit case or rebuttal briefs in this proceeding must submit: (1) a table of contents listing each issue; and (2) a table of authorities.⁹ Case and rebuttal briefs should be filed using ACCESS.

⁷ See 19 CFR 351.309(c); see also 19 CFR 351.303 (for general filing requirements).

⁸ See 19 CFR 351.309(d); see also Administrative Protective Order, Service, and Other Procedures in Antidumping and Countervailing Duty Proceedings, 88 FR 67069, 67077 (September 29, 2023) (APO and Service Final Rule).

⁹ See 19 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁰ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹¹

¹⁰ We use the term “issue” here to describe an argument that Commerce would normally address in a comment of the Issues and Decision Memorandum.

¹¹ See APO and Service Final Rule.

Pursuant to 19 CFR 351.310(c), interested parties who wish to request a hearing must submit a written request to the Assistant Secretary for Enforcement and Compliance, filed electronically via ACCESS. Requests should contain: (1) the party's name, address, and telephone number; (2) the number of participants and whether any participant is a foreign national; and (3) a list of issues to be discussed. Issues raised in the hearing will be limited to those raised in the respective case briefs. An electronically filed hearing request must be received successfully in its entirety via ACCESS by 5 p.m. Eastern Time within 30 days after the date of publication of this notice.

Assessment Rates

Pursuant to section 751(a)(2)(A) of the Act and 19 CFR 351.212(b)(1), Commerce intends to determine, and U.S. Customs and Border Protection (CBP) shall assess, antidumping duties on all appropriate entries of subject merchandise covered by this review. Commerce intends to issue assessment instructions to CBP no earlier than 35 days after the date of publication of the final results of this administrative review in the Federal Register. If a timely summons is filed at the U.S. Court of International Trade, the assessment instructions will direct CBP not to liquidate relevant entries until the time for parties to file a request for a statutory injunction has expired (i.e., within 90 days of publication).

For an individually examined respondent whose weighted-average dumping margin is not zero or de minimis (i.e., less than 0.50 percent), upon completion of the final results, Commerce intends to calculate importer-specific AD assessment rates on the basis of the ratio of the total amount of dumping calculated for each importer's examined sales to the total entered value of those sales. Where we do not have entered values for all U.S. sales to a particular importer, we will calculate an importer-specific, per-unit assessment rate on the basis of the ratio of the total amount of dumping calculated for the importer's examined sales to the total quantity of those sales.¹² To determine whether an importer-specific, per-unit assessment rate is de minimis, in accordance with 19 CFR 351.106(c)(2), we also will calculate an importer-specific ad valorem ratio based on estimated entered values. Where either a respondent's weighted-average dumping margin is zero or de minimis, or an importer-specific assessment rate is zero or de minimis, we intend to instruct CBP to liquidate appropriate entries without regard to antidumping duties.¹³

¹² See 19 CFR 351.212(b)(1).

¹³ See 19 CFR 351.106(c)(2); see also Antidumping Proceeding: Calculation of the Weighted-Average Dumping Margin and Assessment Rate in Certain Antidumping Proceedings; Final Modification, 77 FR 8101, 8103 (February 14, 2012).

For entries of subject merchandise during the POR produced by each individually-examined respondent for which it did not know its merchandise was destined for the United States, we intend to instruct CBP to liquidate such entries at the all-others rate if there is no rate for the intermediate company(ies) involved in the transaction.¹⁴

¹⁴ See Antidumping and Countervailing Duty Proceedings: Assessment of Antidumping Duties, 68 FR 23954 (May 6, 2003).

For the companies which were not selected for individual examination, we intend to assign an AD assessment rate equal to the dumping margin determined for Ecos/Grantec in the final results of review.

The final results of this review shall be the basis for the assessment of antidumping duties on entries of merchandise covered by the final results of this review and for future cash deposits of estimated antidumping duties, where applicable.¹⁵

¹⁵ See section 751(a)(2)(C) of the Act.

Cash Deposit Requirements

The following cash deposit requirements will be effective for all shipments of the subject merchandise entered, or withdrawn from warehouse, for consumption on or after the publication date of the final results of this administrative review, as provided by section 751(a)(2)(C) of the Act: (1) the cash deposit rate for the companies listed above will be equal to the weighted-average dumping margin established in the final results of this review, except if the rate is less than 0.50 percent and, therefore, de minimis within the meaning of 19 CFR 351.106(c)(1), in which case the cash deposit rate will be zero; (2) for previously reviewed or investigated companies not covered in this review, the cash deposit rate will continue to be the company-specific rate published for the most recently-completed segment of this proceeding in which the company was reviewed; (3) if the exporter is not a firm covered in this review, a prior completed review, or the less-than-fair value (LTFV) investigation, but the producer is, then the cash deposit rate will be the company-specific rate established for the most recently-completed segment of this proceeding for the producer of subject merchandise; and (4) the cash deposit rate for all other producers and exporters will continue to be 2.22 percent, the all-others rate established in the LTFV investigation.¹⁶

¹⁶ See Order.

These cash deposit requirements, when imposed, shall remain in effect until further notice.

Final Results of the Review

Unless the deadline is otherwise extended, Commerce intends to issue the final results of this administrative review, including the results of our analysis of issues raised by the parties in the written comments, within 120 days of publication of these preliminary results in the Federal Register, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

These preliminary results are issued and published in accordance with sections 751(a)(1) and 777(i)(1) of the Act, and 19 CFR 351.221(b)(4).

Dated: May 28, 2024
Ryan Majerus,
Deputy Assistant Secretary for Policy and Negotiations, performing the non-exclusive functions and duties of the Assistant Secretary for Enforcement and Compliance.

Appendix I—List of Topics Discussed in the Preliminary Decision Memorandum

I. Summary

II. Background

III. Scope of the Order

IV. Discussion of the Methodology

V. Currency Conversion

VI. Recommendation

Appendix II—Companies Not Selected for Individual Examination

1. Bali Natural Latex

2. CV. Aumireta Anggun

3. CV. Lautan Rezeki

4. Duta Abadi Primantara, Pt

5. Ecos Jaya JL Pasir Awi

6. Mimpi

7. PT. Ateja Multi Industri

8. PT. Ateja Tritunggal

9. PT. Aurora World Cianjur

10. P.T. Barat Daya Gemilang

11. PT. CJ Logistics Indonesia

12. PT. Cahaya Buana Furindotama;

13. PT Celebes Putra Prima

14. PT Champion Mattress Indonesia Manufacturing

15. PT Demak Putra Mandiri

16. PT. Dinamika Indonusa Prima

17. PT. Dunlopillo Indonesia

18. PT. Dynasti Indomegah

19. PT Graha Anom Jaya

20. PT Graha Seribusatujaya

21. PT Kline Total Logistics Indonesia

22. PT. Massindo International

23. PT. Ocean Centra Furnindo

24. PT. Quantum Tosan Internasional

25. PT. Romance Bedding & Furniture

26. PT. Royal Abadi Sejahtera

27. PT Rubberfoam Indonesia

28. PT Solo Murni Epte

29. PT. Transporindo Buana Kargotama

30. Sonder Canada Inc

31. Super Poly Industry PT

[FR Doc. 2024-12115 Filed 5-31-24; 8:45 am]

BILLING CODE 3510-DS-P